DEPARTMENT OF HEALTH AND HUMAN SERVICES

Centers for Disease Control and Prevention

Disease, Disability, and Injury Prevention and Control Special Emphasis Panel (SEP): Health Promotion and Disease Prevention Research Centers, Special Interest Project Competitive Supplements (SIPS) (U48 Panels A-M), RFA-DP09-101SUPP09, Initial Review

Cancellation: The notice was originally published in the Federal Register on July 14, 2009 (Volume 74, Number 133) [page 34026]. The following panels are cancelled: D, F, K, L and M.

Contact Person for More Information: Brenda Colley-Gilbert, PhD, Director, Extramural Research Program Office, CCCH, 4770 Buford Highway, MS K-92, Atlanta, GA 30341, Telephone (770) 488-6295.

The Director, Management Analysis and Services Office, has been delegated the authority to sign Federal Register notices pertaining to announcements of meetings and other committee management activities, for both CDC and the Agency for Toxic Substances and Disease Registry.

Dated: August 26, 2009.
Elaine L. Baker,
Director, Management Analysis and Services Office, Centers for Disease Control and Prevention.

[FR Doc. E9-21379 Filed 9-3-09; 8:45 am]

BILLING CODE 4163-18-P